ENVIRONMENTAL PROTECTION AGENCY

40 CFR Part 170

[OPP-2003-0169; FRL-7352-3]

RIN 2070-AC93

Pesticide Worker Protection Standard; Glove Liners, and Chemical-Resistant Glove Requirements for Agricultural Pilots

AGENCY: Environmental Protection Agency (EPA).

ACTION: Final rule.

SUMMARY: EPA is amending the 1992 Pesticide Worker Protection Standard to permit optional use of separable glove liners beneath chemical-resistant gloves. This amendment also makes optional the provision that agricultural pilots wear gloves when entering or leaving aircraft. All other provisions of the Worker Protection Standard are unaffected by this rule. EPA believes that these changes will reduce the cost of compliance and will increase regulatory flexibility without increasing potential risks.

DATES: This final rule is effective on November 1, 2004.

ADDRESSES: EPA has established a docket for this action under Docket ID number OPP-2003-0169. All documents in the docket are listed in the EDOCKET index at http://www.epa.gov/edocket/. Although listed in the index, some information is not publicly available, i.e., Confidential Business Information (CBI) or other information whose disclosure is restricted by statute. Certain other material, such as copyrighted material, is not placed on the Internet and will be publicly available only in hard copy form. Publicly available docket materials are available either electronically in EDOCKET or in hard copy at the Public Information and Records Integrity Branch (PIRIB), Rm. 119, Crystal Mall #2, 1801 S. Bell St., Arlington, VA., Monday through Friday, excluding legal holidays. The Docket telephone number is (703) 305-5805.

FOR FURTHER INFORMATION CONTACT: Donald Eckerman, Field and External Affairs Division (7506C), Office of Pesticide Programs, Environmental Protection Agency, 1200 Pennsylvania Ave., NW., Washington, DC 20460-0001; telephone number: 703-305-5062; fax number: 703-305-2962; e-mail address: eckerman.donald@epa.gov.

SUPPLEMENTARY INFORMATION:

I. General Information

A. Does this Action Apply to Me?

You may be potentially affected by this action if you are an agricultural employer, including an employer in a farm as well as a nursery, forestry, or greenhouse establishment, who is subject to the Worker Protection Standards. Potentially affected entities may include, but are not limited to:

• Greenhouse, nursery, and floriculture production, NAICS 111, i.e., industries growing crops mainly for food and fiber (farms, orchards, groves, greenhouses, and nurseries, primarily engaged in growing crops, plants, vines, or trees and their seeds).

• Support activities for agriculture and forestry, NAICS 115, i.e., agricultural employers (farms).

• Timber tract operations, NAICS 1131, i.e., establishments primarily engaged in the operation of timber tracts for the purpose of selling standing timber.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in 40 CFR part 170. If you have any questions regarding the applicability of this action to a particular entity, consult the person listed under FOR FURTHER INFORMATION CONTACT.

B. How Can I Access Electronic Copies of this Document and Other Related Information?

In addition to using EDOCKET (http://www.epa.gov/edocket/), you may access this Federal Register document electronically through the EPA Internet under the “Federal Register” listings at http://www.epa.gov/fedrgstr/. A frequently updated electronic version of 40 CFR part 170 is available at E-CFR Beta Site Two at http://www.gpoaccess.gov/ecfr/.

II. Background

A. What Action is the Agency Taking?

This action amends the pesticide Worker Protection Standard at 40 CFR 170.112 and 170.240 to permit optional use of separable glove liners beneath chemical-resistant gloves and to make optional the wearing of gloves by agricultural pilots when entering or leaving aircraft. In both cases, the pesticide product labeling may specify otherwise. All other provisions of the Worker Protection Standard are unaffected by this rule.

B. What is the Agency's Authority for Taking this Action?

This final rule is issued under the authority of section 25(a) of the Federal Insecticide, Fungicide, and Rodenticide Act (FIFRA), 7 U.S.C. section 136-136y, in order to carry out the provisions of FIFRA, including FIFRA section 3, 7 U.S.C. 136a.

C. What did the Agency Propose?

In the Federal Register of September 9, 1997 (62 FR 47543) (FRL-5598-9), EPA proposed two changes to the Worker Protection Standard (WPS) for agricultural pesticides. The first proposed change would allow separable glove liners to be worn beneath chemical-resistant gloves. The second change EPA proposed was to delete the requirement (40 CFR 170.240(d)(6)(i)) that pilots must wear chemical-resistant gloves when entering and leaving aircraft used to apply pesticides. All other Worker Protection Standard provisions concerning glove liners and chemical-resistant gloves were unaffected by this proposal. The Agency believed that these proposed changes would reduce the costs of compliance and increase regulatory flexibility without increasing potential risks.

III. Comments

Comments on the two major provisions of the proposed amendment, the use of separable glove liners and the wearing of gloves when entering or exiting aircraft, are discussed below.

A. Separable Glove Liners

EPA proposed to allow agricultural workers to wear separable glove liners beneath their chemical-resistant gloves. The decision to use separable glove liners was to be at the discretion of the pesticide user and chemical-resistant gloves could continue to be used without liners. EPA's proposal contained restrictions to assure that contaminated liners would not remain in use. To assure that contaminated liners were not reused, all liners would have to be discarded immediately after 8 hours of use within any 24-hour period and liners could not be laundered and reused. The glove liners could not be any longer than the chemical-resistant gloves under which they are worn to prevent absorption of pesticides. The glove liners that came into contact with pesticides would have to be discarded immediately and replaced with new liners. Discarding glove liners immediately is necessary to ensure that contaminated gloves are not reused, accidentally or otherwise.

Of the 12 individuals and organizations who commented specifically on this particular proposal, 10 strongly supported the change. These supporters included agricultural employers and their representative organizations, members of the lawn care industry, State departments of agriculture, academic researchers, and the National Institute for Occupational Safety and Health (NIOSH).

In its comments, NIOSH agreed with EPA that permitting workers to wear glove liners under their chemical-resistant gloves should result in increased compliance with the standards and decreased exposure to pesticides. NIOSH commented further that permitting workers to wear glove liners might also reduce the risk of allergic reactions to certain glove materials.

In general, the supporters of the Agency's proposal said that workers often do not wear chemical-resistant gloves because of the discomfort they experience. Several testified to witnessing the discomfort that can result from the wearing of unlined chemical-resistant gloves. The major discomfort is profuse sweating in the summer and extreme cold during cooler months. One commenter cited his experiences with workers who had developed severe hand dermatitis as a result of wearing chemical-resistant gloves without liners. This commenter also stated that he believed that EPA's prohibition against the use of separable glove liners was increasing the incidence of dermatitis.

Several of the commenters in support of glove liners requested the option of reusable liners that could be laundered. Other commenters stated their support for disposable liners as contained in the proposal. Two of the commenters requested that liner use be extended to 10 hours from the proposed 8 hours, but with discarding still required at the end of a 24-hour period. These commenters were the Hawaii Agriculture Research Center, which represents farmers who grow and harvest sugar on about 70,000 acres in Hawaii, and the Hawaiian Commercial & Sugar Company, Hawaii's largest producer of raw sugar, accounting for more than 60% of all of the State's sugar and producing more than 200,000 tons of raw sugar annually. Both stated that their industry workers often have shifts up to 10 hours and believed no benefit was derived from requiring an extra set of liners for an extra 2 hours of use.

EPA believes that the request to extend glove use in a given 24-hour period from 8 to 10 hours is reasonable. It was the intention of the proposed rule to permit the use of separable glove liners for the duration of the shift, but also to ensure that glove liners were discarded at the end of a shift or when contaminated. Comments were received indicating that shifts can be up to 10 hours long. In light of the proposed requirement that glove liners be replaced when contaminated, the fact that a shift may be 10 hours long rather than 8 hours should not lead to the use of contaminated gloves in the period beyond 8 hours. Thus, to require employers utilizing shifts slightly in excess of 8 hours to replace gloves during that period, when no contamination has occurred, is an unnecessary burden with no significant increase in worker protection, and would respond to no added risk of concern.

Two comments addressing the glove liner proposal were not in favor of permitting the use of liners. One comment, submitted jointly by the Farmworker Justice Fund, Inc., the Farmworker Association of Florida, the Migrant Farmworker Justice Project, the Teamsters Local 890, and California Rural Legal Assistance Foundation (the “Farmworker Comment”), argued that the use of glove liners could negatively affect worker dexterity, that liners would not substantially increase worker comfort, and that the proposed limitations on use of gloves after contamination or a specified time period would be difficult for lay people to follow, difficult to enforce, and unlikely to be observed. This comment also took issue with the use of personal protective equipment (PPE) generally. The second comment, submitted by a private citizen, stated that the necessary research had not been done on this issue prior to publication of the proposed amendment. The commenter did not, however, identify what additional research would have been useful.

EPA, however, agrees with commenters who supported the view that permitting use of comfortable glove liners will increase the overall use of chemical-resistant gloves. Several commenters pointed out that workers are more likely to comply with the requirement to wear chemical-resistant gloves if separable glove liners are included. Those finding that glove liners are not useful, are uncomfortable, limit dexterity, or have other non-risk related negative consequences may continue to use unlined chemical-resistant gloves. EPA believes that permitting reusable glove liners with a laundering requirement would be difficult to enforce and would not assure the desired degree of protection. Specifically, it would be difficult, if not impossible, to ascertain when gloves had been laundered. Further, permitting re-use of glove liners, even if laundered, would not ensure adequate protection. The Agency feels that re-laundered liners are not sufficiently protective, because there is no certainty that laundering a glove liner would remove all contaminants. Information reviewed by the Agency indicates that, although careful laundering has the potential to reduce pesticide residue levels on gloves, it can be difficult to eliminate pesticide residues from gloves, even after repeated washing. EPA believes that disposable glove liners assure that the worker has a non-contaminated liner and does not place an undue financial burden on the employers. Disposable glove liners are inexpensive and readily available. In EPA's experience and based on its judgment, worker comfort and dexterity are improved and workers are more likely to comply with the requirement to wear chemical-resistant gloves if there is an option to wear comfortable separable glove liners with them.

EPA does not believe that more research is necessary regarding this issue prior to the adoption of the modification. EPA also disagrees with the view that questions over the broader issue of whether to require PPE at all support denying the option to use disposable glove liners, which would facilitate the use of chemical-resistant gloves, a form of PPE that is in fact required by current regulations. Finally, EPA does not believe that the requirement to replace glove liners after contamination or a specified time of use would be difficult to enforce. On the contrary, enforcement could be readily effectuated through on-site inspection. Moreover, those encountering difficulty with the timely replacement of glove liners could always choose the option of not using liners at all.

After careful consideration of comments from the Hawaii Agriculture Research Center and the Hawaiian Commercial & Sugar Company discussed above, EPA is adopting the original proposal with the modification that glove liners can be used for up to 10 hours in a 24-hour period. This revision is consistent with EPA's original intent to limit use of individual glove liners to a single shift. The provisions of the proposal requiring disposal of glove liners at the end of a 24-hour period and in the event of contamination are being retained in the final rule. Additionally, EPA has added language that contaminated glove liners must be disposed of in accordance with Federal, State, or local regulations.

B. Pilots Entering or Exiting Airplane

EPA proposed to remove the requirement that pilots of aircraft applying pesticides wear gloves when entering or exiting the cockpit. Comments were received from the National Agricultural Aviation Association, Agricultural Retailers Association, aerial application firms, growers, and state officials in support of the proposal to permit agricultural aviators to enter or exit the cockpit of aircraft without chemical-resistant gloves. The major point made by the commenters in favor of the proposal was that the introduction of contaminated gloves into the confined area of the cockpit would create a hazard far in excess of any hazard caused by the minimal hand contact with the aircraft occurring when entering or exiting the cockpit. Also mentioned by the National Agricultural Aviation Association and some individual agricultural aviators was the use of gloves by pilots when adjusting spray equipment. This appropriate use of gloves can result in significant pesticide residues on the gloves. Therefore, gloves used by pilots should not be assumed to be lightly used and thus free of significant pesticide residues. Ideally, gloves that have been worn to perform pesticide-related tasks outside the airplane should be discarded, but if they are brought into the cockpit, they must be stored in an enclosed container to prevent contamination of the inside of the cockpit, as stated in the current regulation. As long as gloves brought into the cockpit are stored properly, they should generally present no risk of concern.

Two commenters did not support this proposal. The Farmworker Justice Fund, Inc. stated that the body of the aircraft becomes contaminated with pesticides and that the wearing of gloves when entering or exiting the aircraft was a minor burden. The second commenter, an individual, did not believe EPA had adequately established its case that the potential for contamination was minimal.

EPA agrees with commenters that requiring pilots to wear gloves when entering and exiting the cockpit is unnecessary in typical situations. Our experience with chemical risk assessments and regulations since the implementation of the worker protection standard, e.g., in conjunction with the registration and reregistration programs, indicates that not wearing gloves when entering and exiting the cockpit does not present a risk of concern. Since before proposal of this rule in 1997, the Agency has been performing risk assessments assuming that no gloves were worn when entering the cockpit. These risk assessments were performed on chemicals with a wide variety of toxicological characteristics throughout both the registration process and under the Agency's pesticide reregistration program and have not identified concern for exposure at the levels evaluated without gloves. Consequently, EPA has concluded that there is not a routine need for pilots to wear gloves when entering and exiting the cockpit. The Agency may, however, determine on a case-by-case basis that some pesticide/use combinations could trigger the need for gloves or the need to prohibit the use of gloves when entering or exiting the cockpit. The Agency expects that such determinations would be followed by requirements to revise product labeling.

The amended regulation does not require agriculture aviators to wear gloves when entering or exiting an aircraft. The option of whether to wear gloves is at the discretion of the pilot, subject to the Agency's authority, as stated above, to determine on a case-by-case basis when the use of gloves should be required or prohibited on the pesticide product labeling. The Agency emphasizes that today's action is not intended to alter the requirement of 40 CFR 170.240 for wearing gloves during loading, mixing, and other pesticide-handling operations associated with aircraft used to apply pesticides.

IV. Final Rule

After considering the comments received in response to the proposed rule, the Agency is issuing this final rule because EPA believes that these changes will reduce the costs of compliance and will increase regulatory flexibility without increasing potential risks. Only two modifications to the original proposal have been made: (1) To allow glove liners to be used for up to 10 hours in a 24-hour period, rather than the 8 hours in the proposed rule; and (2) to add language that contaminated gloves must be disposed of in accordance with Federal, State, or local requirements.

V. FIFRA Review Requirements

In accordance with FIFRA section 25(a), this final rule was submitted to the FIFRA Scientific Advisory Panel (SAP), the Secretary of the U.S. Department of Agriculture (USDA), and appropriate Congressional Committees. The SAP has waived its review of this final rule, and no comments were received from USDA or any of the Congressional Committees.

VI. Statutory and Executive Order Reviews

A. Executive Order 12866

Under Executive Order 12866, entitled Regulatory Planning and Review (58 FR 51735, October 4, 1993), this action is not a “significant regulatory action” subject to review by the Office of Management and Budget (OMB) because it does not meet any of the criteria in section 3(f) of the Executive Order. The option provided under this rule is intended to provide a reduced burden alternative to the existing requirement. As such, if utilized it is not expected to increase requirements which would increase costs to any person.

An economic analysis was not performed for this rule because the Agency determined that because the rule is not a “significant regulatory action,” performing an economic analysis would involve considerable time and resources and would not add measurable value to the decisionmaking process involved in this rulemaking.

B. Paperwork Reduction Act

This action does not contain any information collection requirements which require approval by OMB under the Paperwork Reduction Act (PRA), 44 U.S.C. 3501 et seq.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's rule on small entities, small entity is defined as: (1) A small business as defined by the Small Business Administration's (SBA) regulations at 13 CFR 121.201; (2) a small governmental jurisdiction that is a government of a city, county, town, school district or special district with a population of less than 50,000; and (3) a small organization that is any not-for-profit enterprise which is independently owned and operated and is not dominant in its field.

After considering the economic impacts of today's final rule on small entities, I certify that this action will not have a significant economic impact on a substantial number of small entities. In determining whether a rule has a significant economic impact on a substantial number of small entities, the impact of concern is any significant adverse economic impact on small entities, since the primary purpose of the regulatory flexibility analyses is to identify and address regulatory alternatives “which minimize any significant economic impact of the rule on small entities.” 5 U.S.C. 603 and 604. Thus, an agency may certify that a rule will not have a significant economic impact on a substantial number of small entities if the rule relieves regulatory burden, or otherwise has a positive economic effect on all of the small entities subject to the rule. EPA has determined that this regulatory action does not impose any adverse economic impacts on any small entities because this rule provides regulatory relief and regulatory flexibility. In addition, if utilized by a business, the implementation of the one option for glove liners would not constitute a significant cost to anyone, small or large.

D. Unfunded Mandates Reform Act

Under Title II of the Unfunded Mandates Reform Act of 1995 (UMRA) (Public Law 104-4), this action does not contain a Federal mandate that may result in expenditures of $100 million or more for State, local, and tribal governments, in the aggregate, or the private sector in any 1 year. The costs associated with this action are described in the Executive Order 12866 section, above. Therefore, this action is not subject to the requirements of sections 202 and 205 of the UMRA.

E. Executive Order 13132

Executive Order 13132, entitled Federalism (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This final rule does not have federalism implications. It will not have substantial direct effects on the States, on the relationship between the national government and the States, or on the distribution of power and responsibilities among the various levels of governments specified in Executive Order 13132. Thus, Executive Order 13132 does not apply to this rule.

F. Executive Order 13175

As required by Executive Order 13175, entitled Consultation and Coordination with Indian Tribal Governments (65 FR 67249, November 6, 2000), EPA has determined that this final rule does not have tribal implications because it will not have a substantial direct effect on one or more Indian tribes, on the relationship between the Federal Government and Indian tribes, or on the distribution of power and responsibilities between the Federal Government and Indian tribes, as specified by Executive Order 13175.

G. Executive Order 13211

This final rule is not subject to Executive Order 13211, Actions Concerning Regulations that Significantly Affect Energy Supply, Distribution, or Use (66 FR 28355, May 22, 2001) because it is not designated as an “economically significant” regulatory action as defined by Executive Order 12866, nor is it likely to have any significant adverse effect on the supply, distribution, or use of energy.

H. Executive Order 13045

Executive Order 13045, entitled Protection of Children from Environmental Health Risks and Safety Risks (62 FR 19885, April 23, 1997) does not apply to this final rule because this action is not designated as an “economically significant” regulatory action as defined by Executive Order 12866 (see Unit XI.A.), nor does it establish an environmental standard, or otherwise have a disproportionate effect on children.

I. National Technology Transfer and Advancement Act

Section 12(d) of the National Technology Transfer and Advancement Act of 1995 (NTTAA), (15 U.S.C. 272 note) directs EPA to use voluntary consensus standards in its regulatory activities unless to do so would be inconsistent with applicable law or impractical. Voluntary consensus standards are technical standards (e.g., materials specifications, test methods, and sampling procedures) that are developed or adopted by voluntary consensus standards bodies. This final rule does not impose any technical standards that would require EPA to consider any voluntary consensus standards.

J. Executive Order 12898

This rule does not have an adverse impact on the environmental and health conditions in low-income and minority communities. Therefore, under Executive Order 12898, entitled Federal Actions to Address Environmental Justice in Minority Populations and Low-Income Populations (59 FR 7629, February 16, 1994), the Agency has not considered environmental justice-related issues.

VII. Congressional Review Act

The Congressional Review Act, 5 U.S.C. 801 et seq., generally provides that before a rule may take effect, the Agency promulgating the rule must submit a rule report, which includes a copy of the rule, to each House of the Congress and the Comptroller General of the United States. EPA will submit a report containing this rule and other required information to the U.S. Senate, the U.S. House of Representatives, and the Comptroller General of the United States prior to publication of the rule in the Federal Register. This rule is not a “major rule” as defined by 5 U.S.C. 804(2).

VIII. References

1. Memorandum dated January 26, 2004 from Jeffrey L. Dawson, Chemist/Risk Assessor, and Jeff Evans, Biologist, Health Effects Division, EPA to Nancy Vogel, Field and External Affairs Division, EPA.

2. Stone, Janis F. and Wendy Wintersteen, “Learn About Pesticides and Clothes,” Fact Sheet Pm-1265f, 1992, p. 1 (Iowa State University Extension, Ames, IA). Available electronically at http//: www.extension.iastate.edu/Publications/PM1265f.pdf.

3. Stone, Janis F., “Understand Label Precautions,” Fact Sheet Pm-1663a, 2000, p. 2 (Iowa State University Extension, Ames, IA). Available electronically at http://www.extension.iastate.edu/Publications/PM1663A.pdf.

4. Stone, Janis F., “Wear the Right Gloves,” Fact Sheet Pm-1663c, 2000, p. 1 (Iowa State University Extension, Ames, IA). Available electronically at http://www.extension.iastate.edu/Publications/PM1663C.pdf.

5. Stone, Janis F., “Keep Gloves Handy for Pesticide Work,” Fact Sheet Pm-1518e, 2002, p. 2 (Iowa State University Extension, Ames, IA). Available electronically at http://www.extension.iastate.edu/Publications/PM1518e.pdf.

6. Gianato, Susan, “Laundering Pesticide-Contaminated Clothing,” publication WL-315, 1996, (West Virginia University, Extension Service, Morgantown, WV). Available electronically at http://www.wvu.edu/exten/infores/pubs/fypubs/WL315.pdf.

7. Handle Pesticide-Stained Clothes with Care, 2001, (University of Illinois Extension, Urbana- Champaign). Available electronically at http://www.extension.uiuc.edu/cfe/.

8. Montana State University, Bozeman, “Laundering Pesticide Contaminated Clothing,” p. 1. Available electronically at http://scarab.msu.montana.edu/extension/MT_laundering.htm.

List of Subjects in 40 CFR Part 170

Environmental protection, Administrative practice and procedure, Labeling, Occupational safety and health, Pesticides and pests, Reporting and recordkeeping requirements.

Dated: August 25, 2004.
Michael O. Leavitt,
Administrator.

Therefore, 40 CFR chapter I is amended as follows:

PART 170—[AMENDED]

1. The authority citation for part 170 continues to read as follows:

Authority: 7 U.S.C. 136a, 136w.

2. Section 170.112 is amended by revising paragraph (c)(4)(vii) to read as follows:

§ 170.112 Entry restrictions.

* * * * *

(c) * * *

(4) * * *

(vii)(A) Gloves shall be of the type specified on the pesticide product labeling. Gloves made of leather, cotton, or other absorbent materials must not be worn for early-entry activities, unless gloves made of these materials are listed as acceptable for such use on the product labeling. If chemical-resistant gloves with sufficient durability and suppleness are not obtainable, leather gloves may be worn on top of chemical-resistant gloves. However, once leather gloves have been worn for this use, they shall not be worn thereafter for any other purpose, and they shall only be worn over chemical-resistant gloves.

(B) Separable glove liners may be worn beneath chemical-resistant gloves, unless the pesticide product labeling specifically prohibits their use. Separable glove liners are defined as separate glove-like hand coverings made of lightweight material, with or without fingers. Work gloves made from lightweight cotton or poly-type material are considered to be glove liners if worn beneath chemical-resistant gloves. Separable glove liners may not extend outside the chemical-resistant gloves under which they are worn. Chemical-resistant gloves with non-separable absorbent lining materials are prohibited.

(C) If used, separable glove liners must be discarded immediately after a total of no more than 10 hours of use or within 24 hours of when first put on, whichever comes first. The liners must be replaced immediately if directly contacted by pesticide. Used glove liners shall not be reused. Contaminated liners must be disposed of in accordance with any Federal, State, or local regulations.

* * * * *

3. Section 170.240 is amended by revising paragraphs (c)(5) and (d)(6)(i) to read as follows:

§ 170.240 Personal protective equipment.

* * * * *

(c) * * *

(5)(i) Gloves shall be of the type specified on the pesticide product labeling. Gloves made of leather, cotton, or other absorbent materials may not be worn while mixing, loading, applying, or otherwise handling pesticides, unless gloves made of these materials are listed as acceptable for such use on the product labeling.

(ii) Separable glove liners may be worn beneath chemical-resistant gloves, unless the pesticide product labeling specifically prohibits their use. Separable glove liners are defined as separate glove-like hand coverings, made of lightweight material, with or without fingers. Work gloves made from lightweight cotton or poly-type material are considered to be glove liners if worn beneath chemical-resistant gloves. Separable glove liners may not extend outside the chemical-resistant gloves under which they are worn. Chemical-resistant gloves with non-separable absorbent lining materials are prohibited.

(iii) If used, separable glove liners must be discarded immediately after a total of no more than 10 hours of use or within 24 hours of when first put on, whichever comes first. The liners must be replaced immediately if directly contacted by pesticide. Used glove liners shall not be reused. Contaminated liners must be disposed of in accordance with any Federal, State, or local regulations.

* * * * *

(d) * * *

(6) Aerial application—(i) Use of gloves. The wearing of chemical-resistant gloves when entering or leaving an aircraft used to apply pesticides is optional, unless such gloves are required on the pesticide product labeling. If gloves are brought into the cockpit of an aircraft that has been used to apply pesticides, the gloves shall be kept in an enclosed container to prevent contamination of the inside of the cockpit.

* * * * *

[FR Doc. 04-19923 Filed 8-31-04; 8:45 am]

BILLING CODE 6560-50-S